DEPARTMENT OF STATE

[Public Notice 7652]

U.S. National Commission for UNESCO Notice of Open Meeting

The U.S. National Commission for UNESCO will hold a meeting in open session on Monday, November 28, 2011 from 10 a.m. to approximately 2 p.m. E.S.T. The meeting will convene in room 310 of the George Washington University Marvin Center at 800 21st Street NW. in Washington, DC.

This meeting will feature a series of speakers offering information about UNESCO and the current state of U.S. engagement with UNESCO. In addition, participants will be invited to form break-out groups to discuss possible programmatic ideas for the Commission. The meeting will also feature a public comment session where the Commission will accept brief oral comments or questions from the public or media. The public comment session will be limited to approximately 10 minutes in total, with 2 minutes allowed per speaker.

For more information or to arrange to participate in this meeting (including requests for reasonable accommodation), individuals should contact Eric Woodard, Executive Director of the U.S. National Commission for UNESCO, Washington, DC 20037. Telephone (202) 663-0026; Fax (202) 663-0035; Email DCUNESCO@state.gov.

Dated: October 21, 2011.
Eric Woodard,
Executive Director, U.S. National Commission for UNESCO, Department of State.

[FR Doc. 2011-28279 Filed 10-31-11; 8:45 am]

BILLING CODE 4710-19-P